SMALL BUSINESS ADMINISTRATION

Surrender of License of Small Business Investment Company

Pursuant to the authority granted to the United States Small Business Administration under the Small Business Investment Act of 1958, as amended, under Section 309 of the Act and Section 107.1900 of the Small Business Administration Rules and Regulations (13 CFR 107.1900) to function as a small business investment company under the Small Business Investment Company License No. 04/04-0304 issued to White Oak SBIC Fund, L.P., said license is hereby declared null and void.

United States Small Business Administration.
Mark Walsh,
Associate Administrator for Investment and Innovation.

[FR Doc. 2016-29381 Filed 12-7-16; 8:45 am]

BILLING CODE 8025-01-P